DEPARTMENT OF COMMERCE

United States Patent and Trademark Office

37 CFR Parts 1, 3, 5 and 11

[Docket No. PTO-C-2013-0059]

Forum To Discuss Proposed Changes To Implement the Hague Agreement Concerning International Registration of Industrial Designs

AGENCY: United States Patent and Trademark Office, Commerce.

ACTION: Notice of meeting.

SUMMARY: The United States Patent and Trademark Office (“USPTO” or “Office”) is convening a forum to discuss implementation of title I of the Patent Law Treaties Implementation Act of 2012 (“PLTIA”). The PLTIA amends the patent laws to implement the provisions of the 1999 Geneva Act of the Hague Agreement Concerning International Registration of Industrial Designs (“Hague Agreement”) and is to take effect on the entry into force of the Hague Agreement with respect to the United States. On November 29, 2013, the Office published a proposed rule in the Federal Register proposing changes to the rules of practice to implement title I of the PLTIA and seeking written comments on the proposals. The forum is an additional way for the public to learn about the Office's proposals in advance of the written comment deadline.

DATES:

Event: The USPTO will hold a forum in Alexandria, Virginia, on January 14, 2014, beginning at 9:00 a.m. Eastern Standard Time (EST), and ending at 12:00 p.m. EST.

Registration: Registration for the forum is requested by December 31, 2013.

ADDRESSES:

Event: The forum will be held at: Madison Auditorium, Concourse Level, United States Patent and Trademark Office Headquarters, 600 Dulany Street, Alexandria, Virginia 22314.

Registration: Registration is required. Early registration is recommended because seating is limited. There is no fee to register for the forum, and registration will be on a first-come, first-served basis. Registration on the day of the event will be permitted on a space-available basis beginning 30 minutes before the event.

To register, please go to: https://www.SignUp4.net/Public/ap.aspx?EID=610J10E and provide the requested information. Each attendee, even if from the same organization, must register separately. If you need special accommodations due to a disability, please inform the contact person identified below.

The USPTO plans to make the forum event available via Web cast. Web cast information will be available on the USPTO's Internet Web site before the event.

FOR FURTHER INFORMATION CONTACT: David Gerk, by telephone at 571-272-9300, or by electronic mail message at David.Gerk@uspto.gov, or Boris Milef, by telephone at 571-272-3288, or by electronic mail message at Boris.Milef@uspto.gov.

SUPPLEMENTARY INFORMATION:

Purpose: This document is to announce that a forum will be convened by the Office to discuss the proposed changes to the Office's rules of practice in order to implement title I of the PLTIA. See Changes To Implement the Hague Agreement Concerning International Registration of Industrial Designs, 78 FR 71870 (Nov. 29, 2013). Public comments will not be solicited for the forum. However, written comments to the proposed rules can be submitted on or before January 28, 2014, as set forth in the Office's notice of proposed rulemaking. While public attendees may have the opportunity to ask questions, group consensus advice will not be sought. Additional details regarding specific topics for the forum will be made available on the Office's Web site.

Background: The Hague Agreement provides that an applicant may apply for design protection in all member countries and with intergovernmental organizations by filing a single, standardized international design application in a single language. Title I of the PLTIA amends title 35 to implement the provisions of the Hague Agreement and is to take effect on the entry into force of the Hague Agreement with respect to the United States. For the forum, the Office intends to provide information regarding the proposed rule changes to implement the PLTIA. Additional information concerning the proposed rules and the Hague Agreement, and any updates concerning the forum, can be found on the Office's Web site, www.uspto.gov.

Dated: December 19, 2013.
Margaret A. Focarino,
Commissioner for Patents, performing the functions and duties of the Under Secretary of Commerce for Intellectual Property and Director of the United States Patent and Trademark Office.

[FR Doc. 2013-30785 Filed 12-23-13; 8:45 am]

BILLING CODE 3510-16-P